DEPARTMENT OF HEALTH AND HUMAN SERVICES

Centers for Disease Control and Prevention

Office of Global Health Cooperative Agreement for: Global Capacity through International Non-Governmental Organization (NGO) Partnership

Announcement Type: New.

Funding Opportunity Number: PA AA123.

Catalog of Federal Domestic Assistance Number: 93.067.

Key Dates: Application Deadline: July 6, 2005.

I. Funding Opportunity Description

Authority: Section 301 and 307 of the Public Health Service Act, [42 U.S.C. Sections 241 and 242(l)], as amended.

Background: The Centers for Disease Control and Prevention (CDC)'s global programs are an essential component of promoting health and preventing disease in the United States and abroad, including ensuring rapid detection and response to emerging health threats. CDC cannot accomplish these efforts alone and therefore seeks to further its work and interests through partnerships with other organizations. The Office of Global Health seeks to collaborate with an international Non-Governmental Organization (NGO) in a public-private partnership. Working with a NGO with a strong international presence will leverage existing resources to achieve health goals. CDC's knowledge and abilities as a scientific organization can be effectively joined with an international NGO that has demonstrated ability to effectively implement public health interventions in many different countries. This international NGO's experience in community-based interventions in a variety of health topic areas will enable public health science to be readily disseminated into the field. The intent of this announcement is to enhance collaboration through building a public-private partnership, and to create impact in health protection and promotion goals.

This partnership will focus in two areas: Global Disease Detection (GDD) and a selection of the United Nations Millennium Development Goals (MDG). The goal of the GDD initiative is to develop national and international capacity to better detect and respond to infectious disease outbreaks of potential worldwide importance, whether natural or intentional. CDC is working to recognize infectious disease outbreaks faster, improve the ability to control and prevent outbreaks, and to detect emerging microbial threats. Through this cooperative agreement CDC intends to work with an international NGO partner to pilot a program to increase disease detection and surveillance in non-traditional or resource poor settings. The goal of this pilot is to build disease response and detection capacity in an international NGO at the local level through communities, organizations, and the Ministry of Health (MOH).

The Millennium Development Goals (MDG) are a framework of eight goals, 18 targets, and 48 measures that were developed by experts from the United Nations (UN), the International Monetary Fund (IMF), the World Bank, and the Organization for Economic Cooperation and Development (OECD). These goals were unanimously adopted by the member states of the UN in September 2000 to focus on outcomes that promote human development as the key to sustaining social and economic progress. Several of these goals target areas of focus for the CDC including maternal mortality, environmental health, and early childhood health and development. Although the MDGs are visionary in nature, projects supported through this cooperative agreement have the potential for being antecedent steps toward attaining these goals through increased service provision, learning capacity, and demonstrated competence. The MDGs are eight goals that outline areas of action, 18 targets that further define this involvement, and 48 indicators that provide measurable benchmarks for interventions. See the following UN Web site (http://www.un.org/millenniumgoals).

Purpose: The purpose of this announcement is to create an inter-institutional relationship between the Centers for Disease Control and Prevention (CDC) and an international Non-Governmental Organization (NGO) that will serve as a bridge between CDC's public health science and the selected grantee's community-based programming in several functional areas in multiple countries. This cooperative agreement will leverage resources and utilize different knowledge and perspective between these two distinctive types of organizations. This announcement will also provide a flexible mechanism for synergistic activities.

This cooperative agreement will leverage capacity in distinct areas of: Global Disease Detection (GDD), Perinatal and Maternal Mortality Reduction, Safe Water Systems (SWS)/Environmental Health Practices, and Early Childhood Health and Development. This collaboration will promote innovative solutions in a global partnership with extensive diversity, resources, and experience. Initial funding is provided at this time for Global Disease Detection and Maternal and Perinatal Mortality Reduction activities. Other activities mentioned may be included, pending the availability of supplemental funds in the future.

Initial collaboration and activities will be in support of the following goals:

Global Disease Detection (GDD): This cooperative agreement is in support of CDC's Global Disease Detection program and its goals of increasing global capacity to prepare for, detect and verify, respond to, and recover from naturally occurring and deliberate threats to health. This will occur through objectives of strengthening sustainable capacity in areas of epidemiology, laboratory, outbreak response, disease monitoring, communications, and management.

Other projects in this announcement are in support of several Millennium Development Goals (MDG) including:

Perinatal and Maternal Mortality Reduction:

Millennium Development Goal 5: Improve maternal health.

Target 6: Reduce by three quarters, between 1990 and 2015, the maternal mortality ratio.

Indicator 16: Maternal mortality ratio (United Nations Children's Fund—World Health Organization (UNICEF-WHO)).

Indicator 17: Proportion of births attended by skilled health personnel (UNICEF-WHO).

Safe Water Systems (SWS)/Environmental Health Practice:

Target 10: Halve, by 2015, the proportion of people without sustainable access to safe drinking water and sanitation.

Indicator 30: Proportion of population with sustainable access to an improved water source, urban and rural (UNICEF-WHO).

Indicator 31: Proportion of population with access to improved sanitation, urban and rural (UNICEF-WHO).

Early Childhood Health and Development:

Millennium Development Goal 4: Reduce Child Mortality.

Target 5: Reduce by two thirds, between 1990 and 2015, the under-five mortality rate.

Indicator 13: Under-five mortality rate (UNICEF-WHO).

This announcement is only for non-research activities supported by CDC/ATSDR. If research is proposed, the application will not be reviewed. For the definition of research, please see the CDC Web site at the following Internet address: http://www.cdc.gov/od/ads/opspoll1.htm.

Activities: Awardee activities for this program are as follows:

General: The CDC and the selected grantee will work together to develop a long-term relationship, with logistical and multi-sectoral outreach and education. This collaboration will establish a clear understanding and protocols in areas of this undertaking. The grantee must have the ability to work with multiple local country offices to link and integrate projects in an international setting and liaison with the CDC. Project findings in one country may be translated and implemented in other settings; therefore the partnering organization must have a worldwide network that includes a resident staff presence in at least 60 countries worldwide.

The selected grantee in collaboration with the CDC will work to determine appropriate sites for project implementation. The grantee will explore the strategic interests of the country offices and their on-the-ground staff, in order to identify the best possible sites for collaboration. Once collaboration is established the grantee will move from technical assistance to leadership and collaboration with sound programming. The grantee will also devote the necessary resources and time to monitor and evaluate the impact on the health system and the health of the communities targeted. It is also expected that the grantee will liaison with other CDC in-country programs in order to avoid duplication and to identify areas for collaboration.

This cooperative agreement will function under the guidance of a technical advisory group. As this agreement will cover a variety of activities, the selected grantee must nominate a single point of contact for all communication and information with CDC in order to streamline the development and implementation of this collaboration.

Initial Funding is provided for the following activities:

Global Disease Detection (GDD): One focus of this announcement will be to create emerging/reemerging disease detection capacity in a major international Non-Governmental Organization (NGO) that has resident staff in sixty or more countries.

In general, CDC expectations of the Global Disease Detection (GDD) program are to: recognize infectious disease outbreaks faster, improve the ability to control and prevent outbreaks, detect emerging microbial threats, and to work with global partners. CDC will develop a partnership with the chosen grantee to increase disease detection and surveillance in non-traditional or resource poor settings. With CDC assistance, the grantee will develop preparedness, recognition, and response standards and protocols for emerging/re-emerging diseases. Although final pilot project sites will be determined in collaboration with CDC advisors, initial pilot project areas may include Vietnam and India. Therefore, applicants must have a demonstrated capacity in Vietnam and India in health and disease prevention.

Activities conducted under this cooperative agreement include but are not limited to:

• Assess current disease detection capacity and public health infrastructure in pilot locations and plan resource appropriate interventions.

• Develop and improve local early warning systems.

• Enhance collaboration with multinational organizations and their partners.

• Create evidence-based tools/practices for emerging/reemerging diseases that can be realistically implemented in resource poor communities.

• Provide standardized GDD criteria for grantee response to disease outbreaks.

• Identify areas where coordinated detection and response can occur.

• Improve syndromic surveillance capabilities at a local level.

• Assess and utilize, if applicable, existing information technology tools and evidence-based best practices to track infectious disease outbreaks and their epidemiology.

• Provide approaches that can be simultaneously coordinated with ongoing surveillance initiatives—e.g. WHO's Global Outbreak Alert Response Network (GOARN).

• Utilize/apply geographic information system (GIS) based approaches to outbreak detection.

• Provide realistic “threshold” based approaches for cluster detection and signal generation for outbreaks.

• Develop plans to implement sustainable collaborations between community animal-health workers or veterinary scientists and public health agencies involved in human disease outbreak surveillance program(s).

• Outline roles of automated laboratory systems/Web-based reporting in disease outbreak surveillance programs.

• Identify ways to strengthen local and national laboratory capacity.

• Develop information on sources of infection, symptoms, prevention techniques, and cross-species dangers.

• Collect, analyze, and interpret data.

• Identify appropriate communication media and messages.

• Develop long-term plans to move beyond the initial implementation phase and develop and disseminate interventions to other countries.

• Pilot a community-based intervention in the area of emerging disease surveillance and detection within a grantee country office. Funds will be provided for materials, training, and a workshop in this area. It is envisaged that this pilot will occur in Vietnam or India in response to concerns regarding avian influenza, or other possible emerging/reemerging diseases.

Perinatal and Maternal Mortality Reduction: This cooperative agreement will also focus on perinatal and maternal mortality reduction. The focus will be on ensuring quality emergency obstetrics care for women, creating strong referral systems in community-based health services, improving community-based reproductive health programs, and working with communities to address key barriers that prevent women from receiving health services related to maternal health. CDC's Division of Reproductive Health (DRH) and the Global AIDS Program (GAP) will use this cooperative agreement to further collaboration with grantees and to streamline their ability to implement international projects. The CDC envisages perinatal and maternal mortality reduction collaboration to initially begin in the countries of: Afghanistan, Tajikistan, Ethiopia, and Tanzania, as well as other countries in sub-Saharan Africa. Although final project sites will be determined in collaboration between the selected grantee and CDC advisors, applicants must have a demonstrated capacity in Afghanistan, Tajikistan, Ethiopia, Tanzania, and sub-Saharan Africa in this capacity.

Activities conducted under this cooperative agreement include but are not limited to:

• Develop, implement, and evaluate community-based approaches, including but not limited to capacity building, empowerment and other participatory approaches that promote maternal and child health.

• Implement a participatory model of community mobilization; examine the capacity of the existing infrastructure to respond to reproductive health needs; and address issues identified by communities (e.g., assessing the need for maternity waiting homes for the at-risk patient).

• Implement maternal and infant health community surveillance systems.

• Survey and evaluate special populations, e.g., adolescents, refugees and HIV-infected population.

• Analyze and define the parameters of reproductive health programs.

• Review quality of care provided in maternal child health clinics (e.g., clinic management, patient flow analysis).

• Expand and improve Prevention of Mother to Child HIV Transmission (PMTCT) services.

Note: Other activities may be included in this cooperative agreement in the future, pending the availability of funds. Although funding may not be available at this time, the selected grantee should have the capacity and intent to engage in these future activities. Funding may be provided in a supplemental manner for the following activities. Following federal protocols this would be limited to a total for all supplemental activities of twenty-five percent of the total base amount per annum.

Safe Water Systems (SWS)/Environmental Health Practice:

The safe water systems/environmental health practice component of this announcement will work on several small discrete projects determined in cooperation by the CDC and the selected grantee. Projects will focus on working to develop the capacity to detect and monitor emerging diseases as well as bacterial, foodborne, and waterborne illnesses. Collaboration will also include the implementation of point-of-use interventions including Safe Water System (SWS) approaches and SWS trainings in both routine and emergency situations. The grantee may expand these activities to include partnering with other organizations in hand hygiene and SWS design.

The selected grantee will also conduct environmental health practice projects. These projects may include providing the technical assistance and expertise needed to develop sustainable environmental health programs to ensure the identification and control of environmental conditions contributing to disease. The Community Environmental Health Assessment (CEHA) is one such process that builds environmental health risk monitoring and develops local environmental health capacity. Although final project sites will be determined in collaboration between the selected grantee and CDC advisors, initial environmental health practice project sites may focus on Latin America.

Therefore, applicants must have a demonstrated capacity in environmental work in Latin America.

Activities conducted under this area of the cooperative agreement include but are not limited to:

• Strengthen collaboration between epidemiology, laboratory, and environmental health services to monitor environmental and health risks.

• Identify and strengthen local and national laboratory capacity.

• Develop strategies to promote and strengthen community participation in community-based environmental health and general health assessments.

• Develop local environmental health risk monitoring systems.

• Strengthen health surveillance activities at the primary level in communities.

• Collect, organize, analyze, and interpret health and environmental data.

Early Childhood Health and Development: This cooperative agreement will also seek to improve the health and development of orphaned and vulnerable preschool-aged children through interventions provided at a locally organized and managed daycare center that can be replicated in other communities and sustained through community resources. In areas of the world heavily impacted by the HIV/AIDS epidemic, young children are often part of families in which one or both parents have died. Preschool aged children are particularly vulnerable to the lack of adequate physical, cognitive, and socioemotional nurturing. With a loss of parents, and a breakdown of household structures, many communities have resorted to forming daycare centers, run by widows or adolescent orphans. If properly staffed and resourced, these centers can provide much for attending young children including nutrition, developmental stimulation, and emotional support. Such nutrition, development, and emotional support can have a large impact in the overall health of the child and may impact childhood mortality rates. Integrated with the socio-emotional development of the child are several health interventions including: nutrition, health assessment, deworming (anti-helmentics), and other basic health interventions. The goal of this project will be to determine whether community daycare centers can provide interventions and services that promote the health and development of young children in resource-poor settings in a cost-effective and sustainable manner. Although final project sites will be determined in collaboration between the selected grantee and CDC advisors, an initial project site may include Kenya. Therefore, applicants must have a demonstrated capacity in Kenya, in education and child development.

Activities conducted under this cooperative agreement include but are not limited to:

• Assess and evaluate the developmental and health status of pre-school aged children in HIV/AIDS impacted households in a pilot community.

• Evaluate whether developmental and health parameters of orphaned and vulnerable children improve with participation in a community daycare center.

• Establish a minimum package of interventions in a community daycare center, that includes health, cognitive, and socioemotional development interventions.

• Determine whether effective interventions for improving early childhood development and health can be modified to be delivered by minimally trained individuals and can utilize available local materials.

• Identify appropriate local partners.

• Conduct evaluation and monitoring of projects, including a cost-benefit analysis.

In a cooperative agreement, CDC staff is substantially involved in the program activities, above and beyond routine grant monitoring.

CDC Activities for this cooperative agreement include, but are not limited to:

• Determining project site locations and length of implementation.

• Assessing current disease detection capacity and public health infrastructure in pilot locations and planning resource appropriate interventions.

• Creating evidence-based tools/practices for emerging/reemerging diseases.

• Developing plans to implement sustainable collaborations in human disease outbreak surveillance program(s).

• Identifying ways to strengthen local and national laboratory capacity.

• Piloting a Global Disease Detection community-based intervention within a grantee country.

• Collaborating on, developing, implementing, training for, and integrating perinatal and maternal mortality surveillance systems at the local level.

• Training and implementation assistance on Safe Water System (SWS) approaches.

• Collaboration in conducting Community Environmental Health Assessments (CEHA), and determining appropriate next steps.

• Establishing a minimum package of early childhood health and development interventions in a community daycare center.

II. Award Information

Type of Award: Cooperative Agreement. CDC involvement in this program is listed in the Activities Section above.

Fiscal Year Funds: 2005.

Approximate Total Funding: $100,000.

$50,000 for Global Disease Detection and $50,000 for Perinatal and Maternal Mortality Reduction.

Approximate Number of Awards: One.

Approximate Average Award: $100,000: $50,000 for Global Disease Detection Activities and $50,000 for Perinatal and Maternal Mortality Reduction Activities. (This amount is for the first budget period and includes direct and indirect costs).

Floor of Award Range: None.

Ceiling of Award Range: $50,000 for Global Disease Detection and $50,000 for Perinatal and Maternal Mortality Reduction Activities (For the first 12 month budget period).

Anticipated Award Date: August 1, 2005.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

III.1. Eligible applicants

• Applications may be submitted by public and private nonprofit and for profit organizations, and by governments and their agencies, such as: Public nonprofit organizations; private nonprofit organizations; for profit organizations; small, minority, women-owned businesses; universities; colleges; research institutions; hospitals; community-based organizations; and faith-based organizations that possess the experience and ability to select and manage these projects.

III.2. Cost Sharing or Matching

Matching funds are not required for this program.

III.3. Other

If you request a funding amount greater than the ceiling of the award range, your application will be considered non-responsive, and will not be entered into the review process. You will be notified that your application did not meet the submission requirements.

Special Requirements: Eligible applicants must have a history of experience and collaboration in the following areas: Global Disease Detection (GDD), Perinatal and Maternal Mortality Reduction, Safe Water Systems (SWS)/Environmental Health Practice, and Early Childhood Health and Development.

Applicants must also follow the necessary procurement and grants and reporting guidelines established by CDC. In addition, eligible applicants will be a legal entity with approval to work, and memoranda of understanding (MOUs) with Ministries of Health (MOH) in: Vietnam, Afghanistan, Ethiopia, Tajikistan, Tanzania, Kenya, and India. Initial areas of collaboration include these countries and therefore the grantee must have ten years of experience and legal authority to work in these countries. For environmental health practice projects, the grantee must also demonstrate environmental capacity in Latin America through evidence and history of related environmental projects.

CDC seeks to expand its global capacity through an NGO partnership in an organization that has a strong international presence. Project findings in one country may be translated and implemented in other settings; therefore the partnering organization must have a worldwide network that includes resident staff presence in at least 60 countries worldwide.

Eligible grantees must also have demonstrated experience working at a community-based level in a resource challenged environment including experience in settings of extreme poverty and working with disenfranchised individuals. Eligible entities must also possess surveillance capacity with permanent staff on the ground, including capacity at the local, district, and national level.

In addition for project specific portions, eligible entities must:

Global Disease Detection (GDD): In addition to previously discussed areas, the selected partnering organization must demonstrate proficiency in the following areas:

• In-depth knowledge of the domestic situation in the selected countries including but not limited to experience in: Education, health, and development.

• A broad international knowledge base with global experience in areas such as: Health, HIV/AIDS, Emergency Humanitarian Assistance, and Education.

• Ability to work with local partners on areas of Information, Education, and Communication (IEC) as well as Behavioural Change Communication (BCC).

• Ability to identify and implement projects within established infrastructure, thus avoiding the creation of a vertical program.

• Capacity to carefully assess public health infrastructure challenges such as the availability of personnel involved in field epidemiology and public health laboratory functioning.

Perinatal and Maternal Mortality Reduction: In addition to previously discussed areas, the selected partnering organization must demonstrate proficiency in the following areas:

• Experience operating from a community to health facility, rather than a facility to community approach so that the local community and its needs and concerns are incorporated from the inception of the project.

• Experience in both community organization and health promotion in reducing maternal and perinatal mortality and promoting women and newborn health.

Safe Water Systems (SWS)/Environmental Health Practice: In addition to previously discussed areas, the selected partnering organization must demonstrate proficiency in the following areas:

• Capacity to detect and monitor emerging diseases as well as bacterial, foodborne, and waterborne illnesses in settings of extreme poverty with disenfranchised individuals.

• Demonstrated experience with SWS in both routine and emergency situations.

• Familiarity with the SWS and training other organizations and individuals in hand hygiene and SWS.

• Familiarity in designing and implementing SWS.

• Pre-existing agreements to operate in this area with necessary local, and regional authorities.

• Experience in strengthening local/regional/national environmental health service infrastructure.

• Experience in environmental risk monitoring, and community involvement, including building local environmental health capacity.

Early Childhood Health and Development: In addition to previously discussed areas, the selected partnering organization must demonstrate proficiency in the following areas:

• Capacity in educational and health programming including experience in working in settings of extreme poverty and working with disenfranchised individuals.

• Experience working with community-level organizations to address educational, health and developmental needs.

• Capacity in addressing the impact of HIV/AIDS on education programs.

• Training local caregivers and other organizations in education, health, and development.

• Evaluation and monitoring capacity in education, health and development.

If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission: CDC strongly encourages you to submit your application electronically by utilizing the forms and instructions posted for this announcement on http://www.Grants.gov, the official Federal agency wide E-grant Web site. Only applicants who apply online are permitted to forego paper copy submission of all application forms.

Paper Submission: Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application

Electronic Submission: You may submit your application electronically at: http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform with all requirements for non-electronic submissions. If both electronic and back-up paper submissions are received by the deadline, the electronic version will be considered the official submission.

Paper Submission: If you plan to submit your application by hard copy, submit the original and two hard copies of your application by mail or express delivery service. Refer to section IV.6. Other Submission Requirements for submission address.

You must submit a project narrative with your application forms. The narrative must be submitted in the following format:

• Maximum number of pages: 30. If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

Your narrative should address activities to be conducted over the entire project period, and must include the following items in the order listed.

For Global Disease Detection and Perinatal and Maternal Mortality Reduction please provide a Plan, Methods, Objectives, Timeline, Participating Staff, Performance Measures, and a Budget Justification. This budget justification should be for the first year only and include direct as well as indirect costs. The budget justification will not be counted in the stated page limit.

For Safe Water System (SWS)/Environmental Health Practice and Early Childhood Health and Development Activities, please provide a brief general description (one page per activity) that responds to the activities outlined, in the case that funding is provided in the future. Please also include evidence of appropriate eligible entity criteria.

For all subject areas, please provide a description of your demonstrated international capacity. Additionally, please describe your minimum ten years of experience in Kenya, Tanzania, Tajikistan, Afghanistan, Ethiopia, Vietnam, and India. Please mention your appropriate evidence and capacity in environmental projects in Latin America. Emphasis should be placed on your international network, including a description on your resident staff in a minimum of sixty countries worldwide.

Additional information may be included in the application appendices. The appendices will not be counted toward the narrative page limit. This additional information includes: Memoranda of Understanding (MOUs) with Ministries of Health, Curriculum Vitaes, Resumes, Organizational Charts, Letters of Support, and additional reporting requirement information.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: July 6, 2005.

Explanation of Deadlines: Applications must be received in the CDC Procurement and Grants Office by 4 p.m. Eastern Time on the deadline date. If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on application content, submission address, and deadline. It supersedes information provided in the application instructions. If your submission does not meet the deadline above, it will not be eligible for review, and will be discarded. You will be notified that you did not meet the submission requirements.

Electronic Submission: If you submit your application electronically with Grants.gov, your application will be electronically time/date stamped which will serve as receipt of submission. In turn, you will receive an e-mail notice of receipt when CDC receives the application. All electronic applications must be submitted by 4 p.m. eastern time on the application due date.

Paper Submission: CDC will not notify you upon receipt of your paper submission. If you have a question about the receipt of your application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding restrictions

Restrictions, which must be taken into account while writing your budget, are as follows:

• Funds may not be used for research.

International Funding Restrictions:

• Funds may be spent for reasonable program purposes, including personnel, travel, supplies, and services. Equipment may be purchased if deemed necessary to accomplish program objectives, however, prior approval by CDC officials must be requested in writing.

• The costs that are generally allowable in grants to domestic organizations are allowable to foreign institutions and international organizations, with the following exception: With the exception of the American University, Beirut and the World Health Organization, Indirect Costs will not be paid (either directly or through sub-award) to organizations located outside the territorial limits of the United States or to international organizations regardless of their location.

• The applicant may contract with other organizations under this program; however the applicant must perform a substantial portion of the activities (including program management and operations, and delivery of prevention services for which funds are required.)

• All requests for funds contained in the budget, shall be stated in U.S. dollars. Once an award is made, CDC will not compensate foreign grantees for currency exchange fluctuations through the issuance of supplemental awards.

• You must obtain annual audit of these CDC funds (program-specific audit) by a U.S.-based audit firm with international branches and current licensure/authority in-country, and in accordance with International Accounting Standards or equivalent standard(s) approved in writing by CDC.

• A fiscal Recipient Capability Assessment may be required, prior to or post award, in order to review the applicant's business management and fiscal capabilities regarding the handling of U.S. Federal funds.

HIV Programs (GAP) language that may also be applicable:

• Funds received from this announcement will not be used for the purchase of antiretroviral drugs for treatment of established HIV infection (with the exception of nevirapine in Prevention of Mother-to-Child Transmission (PMTCT) cases and with prior written approval), occupational exposures, and non-occupational exposures and will not be used for the purchase of machines and reagents to conduct the necessary laboratory monitoring for patient care.

• No funds appropriated under this act shall be used to carry out any program of distributing sterile needles or syringes for the hypodermic injection of any illegal drug.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization, the International AIDS Vaccine Initiative or to any United Nations agency), but does apply to any non-governmental, non-exempt organization entity receiving U.S. Government funds from an exempt organization in connection with this document.

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients receiving U.S. Government funds (“prime recipients”) in connection with this document must certify compliance (pending OMB clearance) prior to actual receipt of such funds in a written statement referencing this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Other

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

Application Submission Address

Electronic Submission: CDC strongly encourages applicants to submit electronically at: http://www.Grants.gov. You will be able to download a copy of the application package from http://www.Grants.gov, complete it offline, and then upload and submit the application via the Grants.gov site. E-mail submissions will not be accepted. If you are having technical difficulties in Grants.gov they can be reached by E-mail at support@grants.gov or by phone at 1-800-518-4726 (1-800-518-GRANTS). The Customer Support Center is open from 7 a.m. to 9 p.m. eastern time, Monday through Friday.

Paper Submission: If you chose to submit a paper application, submit the original and two hard copies of your application by mail or express delivery service to:

You may submit your application electronically at: http://www.grants.gov, OR submit the original and two hard copies of your application by mail or express delivery service to: Technical Information Management-PA #AA123, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Evaluation Criteria: The budget although not scored, will be reviewed. Questions to be considered include: Is the itemized budget for conducting the project, along with the justification, reasonable, and consistent with the stated objectives and planned program objectives?

Your application will be evaluated against the following criteria.

Global Disease Detection and Perinatal and Maternal Mortality Reduction Plan (35 Points): Is the plan adequate to carry out the proposed objectives?

Does the plan cover all necessary components?

How complete and comprehensive is the plan for the entire project period?

Does this plan include quantitative process and outcome measures?

Does the plan maintain adequate surveillance, monitoring, evaluation and data collection and analysis components?

Overall Methods (20 points): Are the proposed methods feasible? To what extent will they accomplish the program goals?

Overall Reach and Capacity (20 points): Eligible applicants will be a legal entity with approval to work and memoranda of understanding (MOUs) with Ministries of Health (MOH) in: Vietnam, Afghanistan, Ethiopia, Tajikistan, Tanzania, Kenya, and India. Initial areas of collaboration include these countries and therefore the grantee must have ten years of experience and legal authority to work in these countries.

Does the applicant have demonstrated capacity in the listed countries?

Does the applicant have MOUs and a minimum of ten years of experience in the listed countries?

Does the eligible entity have experience of working in environmental health practice in Latin America?

Does the applicant have programmatic capacity in all areas?

Does the applicant have demonstrated ability to implement public health interventions internationally in resource-poor and non-traditional settings?

Does the applicant have experience working with disenfranchised populations?

Does the applicant have worldwide reach and partnership for the dissemination of information, i.e., a resident staff presence in at least sixty countries?

Does the applicant have sufficient community-based knowledge and practice?

Does the applicant have the ability/capacity to work with local on the ground staff to establish programs?

Overall Personnel (15 points): Do the staff members have the appropriate experience?

Are the staff roles clearly defined?

As described, will the staff be sufficient to accomplish the program goals?

Safe Water Systems (SWS)/Environmental Health Practice/Early Childhood Health and Development Plan (10 Points): Is the plan adequate to carry out the proposed objectives?

Does the plan cover all necessary components?

How complete and comprehensive is the plan for the entire project period?

Does this plan include quantitative process and outcome measures?

Does the plan maintain adequate surveillance, monitoring, evaluation and data collection and analysis components?

V.2. Review and Selection Process

Applications will be reviewed for completeness by the Procurement and Grants Office (PGO) staff, and for responsiveness by an objective review panel. Incomplete applications and applications that are non-responsive to the eligibility criteria will not advance through the review process. Applicants will be notified that their application did not meet submission requirements.

An objective review panel will evaluate complete and responsive applications according to the criteria listed in the “V.1. Criteria” section above. The review will occur by CDC Employees from outside the Office of Global Health. Applications will be funded in order by score and rank determined by the review panel.

V.3. Anticipated Announcement and Award Dates

August 1, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

Successful applicants must comply with the administrative requirements outlined in 45 CFR Part 74 as Appropriate. For more information on the Code of Federal Regulations, see the National Archives and Records Administration at the following Internet address: http://www.access.gpo.gov/nara/cfr/cfr-table-search.html.

An additional Certifications form from the PHS5161-1 application needs to be included in your Grants.gov electronic submission only. Refer to http://www.cdc.gov/od/pgo/funding/PHS5161-1Certificates.pdf. Once the form is filled out attach it to your Grants.gov submission as Other Attachments Form.

The following additional requirements apply to this project:

• AR-4 HIV/AIDS Confidentiality Provisions.

• AR-5 HIV Program Review Panel Requirements.

• AR-6 Patient Care.

• AR-10 Smoke-Free Workplace Requirements.

• AR-12 Lobbying Restrictions.

• AR-13 Prohibition on Use of CDC Funds for Certain Gun Control Activities.

• AR-14 Accounting System Requirements.

• AR-15 Proof of Non-Profit Status.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report and annual progress report, no more than 90 days after the end of the budget period.

3. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341. Telephone: 770-488-2700.

For program technical assistance, contact: Aaron Rak, MA, Centers for Disease Control and Prevention, 1600 Clifton Road, MS D-58, Atlanta, Georgia 30333. Telephone: (404) 498.4486. E-mail: arak@cdc.gov. Patricia Riley, CNM MPH Project Officer, Office of Global Health, Centers for Disease Control and Prevention, 1600 Clifton Road, MS D-69, Atlanta, Georgia 30333. Telephone: (404) 639.1492. E-mail: PRiley@cdc.gov.

For financial, grants management, or budget assistance, contact: Steward Nichols, Grants Management Specialist, CDC Procurement and Grants Office, 2920 Brandywine Road, Atlanta, GA 30341. Telephone: 770-488-2788. E-mail: shn8@cdc.gov.

VIII. Other Information

This and other CDC funding opportunity announcements can be found on the CDC Web site, Internet address: http://www.cdc.gov. Click on “Funding” then “Grants and Cooperative Agreements.”

Dated: May 31, 2005.
William P. Nichols,
Director, Procurement and Grants Office, Centers for Disease Control and Prevention.

[FR Doc. 05-11152 Filed 6-3-05; 8:45 am]

BILLING CODE 4163-18-P